DEPARTMENT OF ENERGY

Federal Energy Regulatory Commission

[Project No. 12495-002]

Cascade Creek, LLC; Notice of Preliminary Permit Application Accepted for Filing and Soliciting Comments, Motions To Intervene, and Competing Applications

On February 1, 2011, Cascade Creek, LLC filed an application for a preliminary permit, pursuant to section 4(f) of the Federal Power Act (FPA), proposing to study the feasibility of the Cascade Creek Hydroelectric Project (Cascade Creek project) to be located on Cascade Creek, Swan Lake, and Falls Lake in the vicinity of Petersburg, Alaska. The sole purpose of a preliminary permit, if issued, is to grant the permit holder priority to file a license application during the permit term. A preliminary permit does not authorize the permit holder to perform any land-disturbing activities or otherwise enter upon lands or waters owned by others without the owners' express permission.

The proposed project will consist of the following: (1) A low-head weir on Swan Lake with a 3-foot-high, 50-foot-long crest gate and an intake siphon; (2) a 16,000-foot-long, 12 to 14-foot diameter unlined power conduit; (3) an 780-foot-long, 9-foot-diameter steel penstock from the power conduit to the powerhouse; (4) a 140-foot by 80-foot concrete and metal powerhouse containing three turbines with a capacity of 70 megawatts (MW); (5) an approximately 18.7-mile-long, 138-kV transmission line which will tie into an undetermined interconnection near Petersburg; and (6) appurtenant facilities. The estimated annual generation of the Cascade Creek project would be 205 gigawatt-hours.

Applicant Contact: Chris Spens, Cascade Creek, LLC, 3633 Alderwood Avenue, Bellingham, WA 98225.

FERC Contact: Ryan Hansen (202) 502-8074 or by e-mail at ryan.hansen@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12495-002) in the docket number field to access the document. For assistance, contact FERC Online Support.

Dated: March 15, 2011.
Kimberly D. Bose,
Secretary.

[FR Doc. 2011-6617 Filed 3-21-11; 8:45 am]

BILLING CODE 6717-01-P